DEPARTMENT OF HEALTH AND HUMAN SERVICES

Administration for Children and Families

Submission for Office of Management and Budget Review; Child and Family Services Reviews (OMB #0970-0214)

AGENCY: Children's Bureau, Administration for Children and Families, U.S. Department of Health and Human Services.

ACTION: Request for Public Comments.

SUMMARY: The Administration for Children and Families (ACF) is requesting a 3-year extension of the activities associated with the Child and Family Services Reviews information collection (Office of Management and Budget (OMB) #0970-0214, expiration January 31, 2025). There are no changes requested to the collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The following activities are associated with the Child and Family Services and Reviews (CFSR) collection: CFSR Statewide Assessment; CFSR On-site Review; and the CFSR Program Improvement Plan. The collection of information for review of state child and family services programs (45 CFR 1355.33(b), 1355.33(c) and 1355.35(a)) is to determine whether such programs are in substantial conformity with state plan requirements under titles IV-B and IV-E of the Social Security Act (the Act) and is authorized by section 1123(a) [42 U.S.C. 1320a-2a] of the Act. The CFSR looks at the outcomes related to safety, permanency and well-being of children served by the child welfare system and at seven systemic factors that support the outcomes. The information collection is needed to monitor state plan requirements under titles IV-B and IV-E of the Act and is required by federal statute. The resultant information will allow ACF to determine if states are in compliance with state plan requirements and are achieving desired outcomes for children and families. If necessary, ACF will require states to revise applicable statutes, rules, policies, and procedures, and provide proper training to staff, through the development and implementation of program improvement plans. The CFSR reviews not only address conformity with state plan requirements but also assist states in enhancing the capacities to serve children and families. In computing the number of burden hours for this information collection, ACF based the annual burden estimates on ACF's and states' experiences in conducting reviews and developing program improvement plans.

Respondents: State Title IV-E Agencies.

Annual Burden Estimates

Instrument | Total number of respondents | Total number of responses per respondent | Average burden hours per response | Total burden hours | Annual burden hours
Statewide Assessment (45 CFR 1355.33(b)) | 39 | 1 | 120 | 4,680 | 1,560
On-site Review Instrument Stakeholder Interview Guide (45 CFR 1355.33(c)) | 39 | 1 | 1,186 | 46,254 | 15,418
Program Improvement Plan (45 CFR 1355.35(a)) | 39 | 1 | 300 | 11,700 | 3,900

Estimated Total Annual Burden Hours: 20,878.

Authority: 42 U.S.C. 1320a-2a.

Mary C. Jones,
ACF/OPRE Certifying Officer.

[FR Doc. 2024-25033 Filed 10-28-24; 8:45 am]

BILLING CODE 4184-01-P